DEPARTMENT OF HEALTH AND HUMAN SERVICES

Administration for Children and Families

Office of Community Services

AGENCY: Office of Community Services, ACF, DHHS.

ACTION: Notice To Award a Program Expansion Supplement to the National Association for State Community Services Program (NASCSP) in Washington, DC.

CFDA#: 53.570.

Legislative Authority: Section 678A(a)(1)(A) of the Community Services Block Grant (CSBG) Act of 1981, (Pub. L. 97-35) as amended by the Community Opportunities, Accountability, and Training and Educational Services (COATES) Human Services Reauthorization Act of 1998, (Pub. L. 105-285) authorizes the Secretary of Health and Human Services (HHS) to use a percentage of appropriated funds for training, technical assistance, planning, evaluation, performance measurement, monitoring, assistance for States in carrying out corrective actions and the correction of programmatic deficiencies of eligible entities under the CSBG Act.

Amount of Award: $125,000.

Project Period: 9/30/2007-9/29/2010.

Summary:

The purpose of this supplemental request is for the NASCSP to further improve the general capacity and technical competency of states to administer the Community Services Block Grant (CSBG). Targeted assistance will be provided to states for improvement in the areas of state plan development and Results Oriented Management and Accountability (ROMA) focused monitoring. Emerging training and technical assistance needs for states and local agencies receiving CSBG funds will also be assessed and a plan will be developed for strategic assistance in the areas identified. Additionally, this supplemental aims to enhance the capacity of the Office of Community Services (OCS) to continue to convene its Monitoring Task Force (MTF) and provide updates on its comprehensive response to the Government Accountability Office's report on the CSBG program. Specific emphasis will be placed on monitoring states for compliance while encouraging excellence

Contact for Further Information: Josephine B. Robinson, Director, Office of Community Services, 370 L'Enfant Promenade, SW., Washington, DC 20047, Telephone: 202/401-9333.

Dated: September 16, 2008.
Josephine B. Robinson,
Director, OCS.

[FR Doc. E8-22476 Filed 9-24-08; 8:45 am]

BILLING CODE 4184-01-P